DEPARTMENT OF COMMERCE

International Trade Administration

[A-122-855, A-570-024, A-533-861, A-523-810]

Polyethylene Terephthalate Resin From Canada, China, India, and Oman: Final Results of the Expedited First Sunset Reviews of the Antidumping Duty Orders

AGENCY: Enforcement and Compliance, International Trade Administration, Department of Commerce.

SUMMARY: As a result of these expedited sunset reviews, the Department of Commerce (Commerce) finds that revocation of the antidumping duty (AD) orders on polyethylene terephthalate (PET) resin from Canada, the People's Republic of China (China), India, and the Sultanate of Oman (Oman) would likely lead to the continuation or recurrence of dumping at the levels indicated in the “Final Results of Review” section of this notice.

DATES: Applicable July 30, 2021.

FOR FURTHER INFORMATION CONTACT: Thomas Martin, AD/CVD Operations, Office IV, Enforcement and Compliance, International Trade Administration, U.S. Department of Commerce, 1401 Constitution Avenue NW, Washington, DC 20230; telephone: (202) 482-3936.

SUPPLEMENTARY INFORMATION:

Background

On May 6, 2016, the Department of Commerce (Commerce) published AD orders on imports of PET resin from Canada, China, India, and Oman.¹ On April 1, 2021, Commerce published the notice of initiation of the first sunset reviews of the AD Orders, pursuant to section 751(c) of the Tariff Act of 1930, as amended (the Act).²

¹ See Certain Polyethylene Terephthalate Resin from Canada, the People's Republic of China, India, and the Sultanate of Oman: Amended Final Affirmative Antidumping Determination (Sultanate of Oman) and Antidumping Duty Orders, 81 FR 27979 (May 6, 2016) (AD Orders).

² See Institution of Five-Year (Sunset) Reviews, 86 FR 17197 (April 1, 2021).

In April 2021, Commerce received notices of intent to participate within the 15-day deadline specified in 19 CFR 351.218(d)(1)(i) from DAK Americas, LLC, Indorama Ventures USA Inc., Nan Ya Plastics Corporation America (collectively, domestic interested parties).³ These domestic interested parties claim interested party status under section 771(9)(C) of the Act, as manufacturers in the United States of the domestic like product. On April 30, 2021, Commerce received timely and adequate substantive responses to the notice of initiation from the domestic interested parties within the 30-day deadline specified in 19 CFR 351.218(d)(3).⁴

³ See Domestic Interested Parties' Letter, “Domestic Interested Parties' Notice of Intent to Participate,” dated April 15, 2021.

⁴ See Domestic Interested Parties' Letter, “Domestic Interested Parties' Substantive Response to Notice of Initiation,” dated April 30, 2021.

On May 3, 2021, two respondent interested parties, CG Roxane LLC (CG Roxane) and Niagara Bottling LLC (Niagara) filed substantive responses. Commerce determined that the respondent interested parties did not establish that they met the requirement in 19 CFR 351.218(e)(1)(ii)(A) and, thus, determined that their responses were inadequate.⁵ On May 21, 2021, Commerce notified the U.S. International Trade Commission that we did not receive an adequate substantive response from respondent interested parties.⁶ As a result, pursuant to section 751(c)(3)(B) of the Act and 19 CFR 351.218(e)(1)(ii)(C)(2), Commerce conducted expedited (120-day) sunset reviews of the AD Orders.

⁵ See CG Roxane's Letter, “Sunset Review of Polyethylene Terephthalate Resin from China and Oman: Response to Notice of Institution,” dated May 3, 2021; see also Niagara's letter, “Sunset Review of Polyethylene Terephthalate Resin from China: Response to Notice of Institution,” dated May 3, 2021. For details regarding the submissions of CG Roxane and Niagara, see Memorandum, “Issues and Decision Memorandum for the Expedited First Sunset Reviews of the Antidumping Duty Orders on Certain Polyethylene Terephthalate Resin from Canada, the People's Republic of China, India, and the Sultanate of Oman,” dated concurrently with, and hereby adopted by, this notice (Issues and Decision Memorandum).

⁶ See Commerce's Letter, “Sunset Reviews Initiated on March 31, 2021”, dated May 21, 2021.

Scope of the Orders

The merchandise covered by the AD Orders is PET resin having an intrinsic viscosity of at least 0.70, but not more than 0.88, deciliters per gram. The scope includes blends of virgin PET resin and recycled PET resin containing 50 percent or more virgin PET resin content by weight, provided such blends meet the intrinsic viscosity requirements above. The scope includes all PET resin meeting the above specifications regardless of additives introduced in the manufacturing process. The merchandise subject to the AD Orders is properly classified under subheading 3907.60.00.30 of the Harmonized Tariff Schedule of the United States (HTSUS). Although the HTSUS subheading is provided for convenience and customs purposes, the written description of the merchandise covered by the AD Orders is dispositive.

Analysis of Comments Received

A complete discussion of all issues raised in these sunset reviews, including the likelihood of continuation or recurrence of dumping in the event of revocation of the AD Orders and the magnitude of the margins likely to prevail if the AD Orders were to be revoked, is provided in the Issues and Decision Memorandum. A list of topics discussed in the Issues and Decision Memorandum is included as an appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly on the internet at http://enforcement.trade.gov/frn.

Final Results of Reviews

Pursuant to sections 751(c)(1) and 752(c)(1) and (3) of the Act, Commerce determines that revocation of the AD Orders would be likely to lead to the continuation or recurrence of dumping, and the magnitude of the weighted-average dumping margins likely to prevail are up to 13.60 percent for Canada, 19.41 percent for India, 126.58 percent for China, and 7.62 percent for Oman.

Administrative Protective Order (APO)

This notice also serves as the only reminder to parties subject to an APO of their responsibility concerning the return or destruction of proprietary information disclosed under APO in accordance with 19 CFR 351.305. Timely notification of the return or destruction of APO materials or conversion to judicial protective orders is hereby requested. Failure to comply with the regulations and terms of an APO is a violation which is subject to sanction.

Notification to Interested Parties

We are issuing and publishing the final results and this notice in accordance with sections 751(c), 752(c), and 777(i)(1) of the Act, and 19 CFR 351.218(e)(1)(ii)(C)(2) and 351.221(c)(5).

Dated: July 23, 2021.
Christian Marsh,
Acting Assistant Secretary for Enforcement and Compliance.

Appendix

List of Topics Discussed in the Issues and Decision Memorandum

I. Summary

II. Background

III. Scope of the Orders

IV. History of the Orders

V. Legal Framework

VI. Discussion of the Issues

1. Likelihood of Continuation or Recurrence of Dumping

2. Magnitude of the Dumping Margins Likely to Prevail

VII. Final Results of Sunset Reviews

VIII. Recommendation

[FR Doc. 2021-16253 Filed 7-29-21; 8:45 am]

BILLING CODE 3510-DS-P